SURFACE TRANSPORTATION BOARD

[Docket No. EP 765; Docket No. EP 755; Docket No. EP 665 (Sub-No. 2)]

Joint Petition for Rulemaking To Establish a Voluntary Arbitration Program for Small Rate Disputes; Final Offer Rate Review; Expanding Access to Rate Relief

AGENCY: Surface Transportation Board.

ACTION: Extending time to submit reply comments.

SUMMARY: The Board grants, in part, a motion for an extension of time to file comments in Docket No. EP 765, extending the deadline for reply comments until April 15, 2021. The Board also will extend the deadline for reply comments in Docket Nos. EP 755 and EP 665 (Sub-No. 2) until April 15, 2022.

DATES: The reply comment periods established by the notices published on November 26, 2021, at 86 FR 67622 and 86 FR 67588 are extended until April 15, 2022.

FOR FURTHER INFORMATION CONTACT: Amy Ziehm at (202) 245-0391. Assistance for the hearing impaired is available through the Federal Relay Service at (800) 877-8339.

SUPPLEMENTARY INFORMATION: Additional information is contained in the Board's decision, which is available at www.stb.gov.

Decided: December 28, 2021.
By the Board, Board Members Fuchs, Oberman, Primus, and Schultz.
Andrea Pope-Matheson,
Clearance Clerk.

[FR Doc. 2021-28528 Filed 1-4-22; 8:45 am]

BILLING CODE 4915-01-P